DEPARTMENT OF STATE

[Public Notice 6997]

In the Matter of the Designation of Nayif Bin-Muhammad al-Qahtani also known as Nayef Bin Muhammad al-Qahtani also known as Nayif Muhammad al-Qahtani also known as Nayf Mohammed al-Qahtani also known as Naif Mohammad Said al-Qahtani Alkodri also known as Naif Mohammed Saeed al-Kodari al-Qahtani also known as Nayef Bin Mohamed al-Khatani also known as Mohammed Naif al-Khatani also known as Nayef bin Mohamed al-Khatany also known as Al-Qahtani Abohemem also known as Abi Hamam also known as Abu-Hamam also known as Abu Humam also known as Abu Hammam also knows as al-Qahtani as a Specially Designated Global Terrorist pursuant to Section 1(b) of Executive Order 13224, as Amended

Acting under the authority of and in accordance with section 1(b) of Executive Order 13224 of September 23, 2001, as amended by Executive Order 13268 of July 2, 2002, and Executive Order 13284 of January 23, 2003, I hereby determine that the individual known as Nayif Bin-Muhammad al-Qahtani and also known as Nayef Bin Muhammad al-Qahtani, also known as Nayif Muhammad al-Qahtani, also known as Nayf Mohammed al-Qahtani, also known as Naif Mohammad Said al-Qahtani Alkodri, also known as Naif Mohammed Saeed al-Kodari al-Qahtani, also known as Nayef Bin Mohamed al-Khatani, also known as Mohammed Naif al-Khatani, also known as Nayef bin Mohamed al-Khatany, also known as Al-Qahtani Abohemem, also known as Abi Hamam, also known as Abu-Hamam, also known as Abu-Humam, also known as Abu-Hammam, also known as Abu Hammam al-Qahtani committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: April 6, 2010.
Hillary Rodham Clinton,
Secretary of State,
Department of State.

[FR Doc. 2010-11192 Filed 5-10-10; 8:45 am]

BILLING CODE 4710-10-P